DEPARTMENT OF COMMERCE

National Oceanic and Atmospheric Administration

RIN 0648-XC865

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Management Team (GMT) will hold a working meeting, which is open to the public.

DATES: The GMT meeting will be held Monday, September 30, 2013 from 1 p.m. until business for the day is completed. The GMT meeting will reconvene Tuesday, October 1, 2013 through Friday, October 4, 2013 from 8:30 a.m. until business for each day has been completed.

ADDRESSES: The meeting will be held at the Pacific Council Office, Large Conference Room, 7700 NE. Ambassador Place, Suite 101, Portland, OR 97220-1384; telephone: (503) 820-2280.

FOR FURTHER INFORMATION CONTACT: Ms. Kelly Ames or Mr. John DeVore, Staff Officers, Pacific Council; telephone: (503) 820-2280.

SUPPLEMENTARY INFORMATION: The primary purpose of the GMT working meeting is to develop recommendations for 2015-16 groundfish harvest specifications and management measures, long-term impact analysis, and Amendment 24. The GMT may also address other assignments relating to groundfish management. No management actions will be decided by the GMT. The GMT's task will be to develop recommendations for consideration by the Council at its November meeting in Costa Mesa, CA.

Although non-emergency issues not contained in the meeting agenda may come before the GMT for discussion, those issues may not be the subject of formal GMT action during this meeting. GMT action will be restricted to those issues specifically listed in this notice and any issues arising after publication of this notice that require emergency action under section 305(c) of the Magnuson-Stevens Fishery Conservation and Management Act, provided the public has been notified of the GMT's intent to take final action to address the emergency.

Special Accommodations

This meeting is physically accessible to people with disabilities. Requests for sign language interpretation or other auxiliary aids should be directed to Mr. Kris Kleinschmidt at (503) 820-2280 at least 5 days prior to the meeting date.

Dated: September 10, 2013.
Tracey L. Thompson,
Acting Deputy Director, Office of Sustainable Fisheries, National Marine Fisheries Service.

[FR Doc. 2013-22293 Filed 9-12-13; 8:45 am]

BILLING CODE 3510-22-P